DEPARTMENT OF JUSTICE

Notice of Lodging of Consent Decree Pursuant to the Safe Drinking Water Act

Under 28 CFR 50.7, notice is hereby given that on October 24, 2000, a proposed Consent Decree (“the Decree”) in United States v. Blue River Exploration, Inc., Civil Action No. 4:99 CV-10-M, was lodged with the United States District Court for the Western District of Kentucky

The Defendants are Stephen Pile, two partnerships in which he is the general partner, namely, Blue River/Veazey Project, Ltd. and Blue River Oil Income Fund 1983, Ltd., and his company, Blue River Exploration, Inc. The Defendants are the owners and operators of underground injection wells located in Daviess and Hopkins Counties, Kentucky. The Complaint filed by the United States alleged that the Defendants violated the Safe Drinking Water Act (“the SDWA”), an Administrative Order on Consent issued by the United States Environmental Protection Agency to Defendants under the SDWA, and several regulations contained in the Underground Injection Control (“UIC”) program for Kentucky in their operation of their injection wells. The United States' Complaint requested the District Court to assess civil penalties against the Defendants for those violations, and also to order Defendants to comply with the SDWA and the UIC program regulations by plugging and abandoning their underground injection wells in accordance with an EPA-approved plugging and abandonment plan.

The Decree will resolve all of the United States' claims against all of the Defendants. Under the Decree, Defendants have agreed to (1) pay the United States a civil penalty of $10,000 for their violations, and (2) plug and abandon all of their underground injections wells by September 30, 2001, in accordance with an EPA-approved plugging and abandonment plan.

The Department of Justice will receive for a period of thirty (30) days from the date of this publication comments relating to the Decree. Comments should be addressed to the Assistant Attorney General, Environment and Natural Resources Division, U.S. Department of Justice, P.O. Box 7611, Washington, DC 20044-7611, and should refer to United States v. Blue River Exploration, Inc., DOJ No. 90-5-1-1-4506.

The Decree may be examined at the Office of the United States Attorney for the Western District of Kentucky, 510 W. Broadway, 10th Fl., Louisville, Kentucky, and also at the U.S. Environmental Protection Agency, Region 4, Environmental Accountability Division, 61 Forsyth Street, SW., Atlanta, Georgia.

A copy of the Decree may also be obtained by mail from the Consent Decree Library, P.O. Box 7611, U.S. Department of Justice, Washington, D.C. 20044-7611. In requesting a copy of the Decree, please enclosed a check in the amount of $7.25 (25 cents per page reproduction cost), made payable to the “Consent Decree Library.”

Walker B. Smith,
Deputy Chief, Environmental Enforcement Section, Environment & Natural Resources Division.

[FR Doc. 00-28174 Filed 11-1-00; 8:45 am]

BILLING CODE 4410-15-M